DEPARTMENT OF COMMERCE

National Oceanic and Atmospheric Administration

[I.D. 122303F]

North Pacific Fishery Management Council; Public Meeting

AGENCY: National Marine Fisheries Service (NMFS), National Oceanic and Atmospheric Administration (NOAA), Commerce.

ACTION: Notice of public meetings of the North Pacific Fishery Management Council Fur Sea Committee.

SUMMARY: The North Pacific Fishery Management Council (Council) Steller Sea Lion Mitigation Committee will hold a public meeting.

DATES: The meeting will be held on January 20, 2004, 8:30 a.m. to 5 p.m.

ADDRESSES: The meeting will be held at the Alaska Fishery Science Center, 7600 Sand Point Way NE, Bldg 4, National Marine Mammal Laboratory Conference Room, Seattle, WA 98115.

Council address: North Pacific Fishery Management Council, 605 W. 4th Ave., Suite 306, Anchorage, AK 99501-2252.

FOR FURTHER INFORMATION CONTACT: Bill Wilson, Council staff; telephone: 907-271-2809.

SUPPLEMENTARY INFORMATION: Agenda-(1) Introductions, (2) receive report from NMFS on Proposal Package and Discuss Any Issues, (3) update on schedule for preparation of Environmental Assessment and completion of rulemaking, (4) adaptive management - experimental design update, (5) other business as necessary.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: December 30, 2003.
Richard W. Surdi,
Acting Director, Office of Sustainable Fisheries, National Marine Fisheries Service.

[FR Doc. E3-00686 Filed 12-31-03; 8:45 am]

BILLING CODE 3510-22-S